DEPARTMENT OF LABOR

Employment and Training Administration

[TA-W-65,405]

Biofit Engineered Products, Bowling Green, OH; Notice of Termination of Investigation

Pursuant to Section 221 of the Trade Act of 1974, as amended, an investigation was initiated on February 26, 2009 in response to a petition filed by UNITE HERE, Local 1758 on behalf of workers of Biofit Engineered Products, Bowling Green, Ohio.

The petitioner has requested that the petition be withdrawn. Therefore, the investigation under this petition has been terminated.

Signed at Washington, DC, this 1st day of April, 2009.
Linda G. Poole,
Certifying Officer, Division of Trade Adjustment Assistance.

[FR Doc. E9-10380 Filed 5-5-09; 8:45 am]

BILLING CODE 4510-FN-P